DEPARTMENT OF THE TREASURY

Office of Foreign Assets Control

Additional Designation of Individuals and Entity Pursuant to Executive Order 13224

AGENCY: Office of Foreign Assets Control, Treasury.

ACTION: Notice.

SUMMARY: The Treasury Department's Office of Foreign Assets Control (“OFAC”) is publishing the names of two newly-designated individuals and one newly-designated entity whose property and interests in property are blocked pursuant to Executive Order 13224 of September 23, 2001, “Blocking Property and Prohibiting Transactions With Persons Who Commit, Threaten To Commit, or Support Terrorism.”

DATES: The designation by the Secretary of the Treasury of two individuals and one entity identified in this notice, pursuant to Executive Order 13224, is effective on January 26, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001, terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Secretary of the Treasury, in consultation with the Secretary of State, the Secretary of the Department of Homeland Security and the Attorney General, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Secretary of the Treasury, in consultation with the Secretary of State, the Secretary of the Department of Homeland Security and the Attorney General, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On January 26, 2007, the Secretary of the Treasury, in consultation with the Secretary of State, the Secretary of the Department of Homeland Security, the Attorney General, and other relevant agencies, designated, pursuant to one or more of the criteria set forth in subsections 1(b), 1(c) or 1(d) of the Order, two individuals and one entity whose property and interests in property are blocked pursuant to Executive Order 13224.

The list of additional designees follows:

Individuals

DOCKRAT, Farhad Ahmed (a.k.a. DOCKRAT, Ahmed; a.k.a. DOCKRAT, Farhaad; a.k.a. DOCKRAT, Farhaad Ahmed; a.k.a. DOCKRAT, Farhad; a.k.a. DOCKRAT, Farhad Ahmad; a.k.a. DOCKRAT, Maulana Farhad; a.k.a. DOCRATE, Farhad; a.k.a. “DOCKRAT, F.”), 386 Swanepoel Street, Erasmia, Pretoria, South Africa; DOB 28 Feb 1959; POB Pretoria, South Africa; nationality South Africa; National ID No. 5902285162089/055 (South Africa); Passport 446333407 (South Africa) expires 26 May 2014.

DOCKRAT, Junaid Ismail (a.k.a. DOCKRAT, Junaid; a.k.a. DOCRATE, Junaid; a.k.a. “AHMED, DR.”; a.k.a. “DOCKRAT, J. I.”), 71 Fifth Avenue, Mayfair 2108, South Africa; P.O. Box 42928, Fordsburg 2033, South Africa; Johannesburg, South Africa; DOB 16 Mar 1971; National ID No. 7103165178083 (South Africa).

Entity

SNIPER AFRICA (a.k.a. SNIPER OUTDOOR CC; a.k.a. SNIPER OUTDOORS CC; a.k.a. TRUE MOTIVES 1236 CC), P.O. Box 28215, Kensington 2101, South Africa; 40 Mint Road, Amoka Gardens, Fordsburg, Johannesburg, South Africa; P.O. Box 42928, Fordsburg 2003, South Africa; 16 Gold Street, Carletonville 2500, South Africa; Registration ID 200302847123; Tax ID No. 9113562152; Web site http://www.sniperafrica.com.

Dated: January 26, 2007.
J. Robert McBrien,
Acting Director, Office of Foreign Assets Control.

[FR Doc. 07-422 Filed 1-30-07; 8:45 am]

BILLING CODE 4811-42-P